NUCLEAR REGULATORY COMMISSION

[Docket No. 50-320; NRC-2022-0193]

TMI-2 Solutions, LLC; Three Mile Island Station, Unit No. 2

AGENCY: Nuclear Regulatory Commission.

ACTION: Exemption; issuance.

SUMMARY: The U.S. Nuclear Regulatory Commission (NRC) is issuing partial exemptions, with a conforming amendment, from several of the record keeping requirements in its regulations in response to a request from TMI-2 Solutions, LLC. Specifically, the licensee requested partial exemptions for certain NRC regulations which require certain records to be retained for the period specified by the appropriate regulation, license condition, or technical specifications (TS), or until termination of the license if not otherwise specified. In response to the licensee's requests, the NRC also issued a conforming amendment that revised the license to reflect the specific exemptions and associated changes in the TS.

DATES: The exemption was issued on and was effective on September 16, 2022.

ADDRESSES: Please refer to Docket ID NRC-2022-0193 when contacting the NRC about the availability of information regarding this document. You may obtain publicly available information related to this document using any of the following methods:

• Federal Rulemaking Website: Go to https://www.regulations.gov and search for Docket ID NRC-2022-0193. Address questions about Docket IDs in Regulations.gov to Stacy Schumann; telephone: 301-415-0624; email: Stacy.Schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. Eastern Time (ET), Monday through Friday, except Federal holidays.

FOR FURTHER INFORMATION CONTACT: Amy M. Snyder, Office of Nuclear Material Safety and Safeguards, U.S. Nuclear Regulatory Commission, Washington, DC 20555-0001, telephone: 301-415-6822, email: Amy.Snyder@nrc.gov.

SUPPLEMENTARY INFORMATION: The text of the exemption is attached.

Dated: October 31, 2022.
For the Nuclear Regulatory Commission.
Shaun M. Anderson,
Chief, Reactor Decommissioning Branch, Division of Decommissioning, Uranium Recovery, and Waste Programs, Office of Nuclear Material Safety and Safeguards.

Attachment—Exemption

NUCLEAR REGULATORY COMMISSION

Docket No. 50-320

TMI-2 Solutions, LLC

Three Mile Island Nuclear Station, Unit No. 2

Partial Exemptions and Conforming Amendment

I. Background

TMl-2 Solutions, LLC, (TMI-2 Solutions or the licensee) is the holder of Possession Only License (POL) No. DPR-73 for Three Mile Island Nuclear Station, Unit No. 2 (TMI-2). The license provides, among other things, that the facility is subject to all rules, regulations, and orders of the U.S. Nuclear Regulatory Commission (NRC or the Commission) now or hereafter in effect.

On March 28, 1979, the unit experienced an accident initiated by interruption of secondary feedwater flow. This led to a core heat up that caused fuel damage. Most of the fuel material travelled down through the region of the southeastern assemblies and into the core bypass region. A portion of the fuel material passed around the bypass region and migrated down into the lower internals and lower head region, but overall reactor vessel integrity was maintained throughout the accident. As a result of this accident, small quantities of spent nuclear fuel, damaged core material, and high-level waste (collectively referred to as “Debris Material”) were transported through the reactor coolant system and the Reactor Building. In addition, a small quantity of Debris Material was transported to the auxiliary and fuel handling buildings (AFHB). Further spread of the Debris also occurred as part of the post-accident water processing cleanup activities.

The quantity of fuel remaining at TMI-2 is a small fraction of the initial fuel load; approximately 99 percent was successfully removed in the defueling. Additionally, large quantities of radioactive fission products that were released into various systems and structures were removed as part of the waste processing activities during the TMI-2 Cleanup Program. The cleanup to meet the NRC post-accident safe storage criteria was completed and accepted by the NRC with TMI-2 entering into Postdefueling Monitored Storage (PDMS) in 1993.

In a letter dated February 13, 2013, (Agencywide Documents and Access Management System Accession No. ML12349A291), the NRC stated that September 14, 1993, is considered the date of TMI-2's cessation of operations. The September 14, 1993, date coincides with the issuance of License Amendment No. 45, which converted the TMI-2 operating license into a POL (ML20029E532).

Approximately 99 percent of the fuel was removed and shipped to the Idaho National Engineering and Environmental Laboratory (INEEL) under the responsibility of the U.S. Department of Energy. The reactor coolant system was decontaminated to the extent practical to reduce radiation levels to as low as is reasonably achievable. As part of the decontamination effort, water was removed to the extent practical from the reactor coolant system and the fuel transfer canal, and the fuel transfer tubes were isolated. Radioactive wastes from the major cleanup activities have been shipped off-site or have been packaged and staged for shipment off-site. Following the decontamination activities, only the Reactor Building and a few areas in the AFHB continued to have general area radiation levels higher than those of an undamaged reactor facility nearing the end of its operating life.

With the accident cleanup completed and the spent fuel moved to INEEL, there is no facility function related to the safe storage and management of irradiated fuel.

II. Request/Action

By letter dated October 5, 2021 (ML21279A278), as supplemented on December 15, 2021 (ML21354A027), TMI-2 Solutions submitted an exemption request asking for permanent partial exemptions from: (1) Title 10 of the Code of Federal Regulations (10 CFR) Part 50, Appendix B, Criterion XVII, “Quality Assurance Criteria for Nuclear Power Plants and Fuel Reprocessing Plants,” which requires certain records to be retained consistent with applicable regulatory requirements for a duration established by the licensee; (2) 10 CFR 50.59(d)(3), “Changes, tests, and experiments,” which requires certain records to be maintained until “termination of an operating license issued under this part;” and (3) 10 CFR 50.71(c), “Maintenance of records, making of reports,” which requires certain records to be retained for the period specified by the appropriate regulation, license condition, or Technical Specifications (TS), or until termination of the license if not otherwise specified.

The licensee also submitted a license amendment request, which would revise the license to reflect the specific exemptions and associated changes in the TS, should the NRC approve the partial exemption request.

The licensee requests these exemptions to eliminate the requirement to maintain records that are no longer necessary or applicable due to the permanently defueled condition and decommissioning status of the station. Specifically, TMI-2 Solutions states that the following records would no longer be retained: Records associated with structures, systems, and components (SSCs), and activities that were applicable to the nuclear unit, which are no longer required by the Part 50 licensing basis (e.g., removed from the Decommissioning Final Safety Analysis Report and/or Technical Specifications by appropriate change mechanisms). Such partial exemptions would eliminate the associated, unnecessary regulatory and economic burdens of retaining records for SSCs and activities that are no longer part of the TMI-2 licensing basis.

TMI-2 Solutions, in its December 15, 2021, supplement, committed to preserve all records pertaining to the 1979 Records Preservation Order, published in the Federal Register (FR) on May 29, 1979, ((44 FR 30788, and Attachment 1 of December 15, 2021 submittal (ML21354A027)). TMI-2 Solutions notes that an inventory of such records for the period from March 27, 1979, through May 1, 1979, was submitted to the NRC on November 18, 2021, to assist the NRC Historian in determining if the NRC document collection for the TMI-2 accident was missing any needed documents.

In the exemption request, TMI-2 Solutions cites record retention partial exemptions granted consistent with similar exemption requests that have been approved recently by the NRC for other nuclear power reactor facilities beginning decommissioning. Specifically, TMI-2 Solutions notes that the NRC granted similar partial exemptions to Three Mile Island, Unit No. 1 (ML20107J648), Oyster Creek Nuclear Generating Station (ML18122A306), Millstone Power Station, Unit No. 1, (ML070110567); Zion Nuclear Power Station, Unit Nos. 1 and 2 (ML111260277); Vermont Yankee Nuclear Power Station (ML15344A243), San Onofre Nuclear Generating Station, Unit Nos. 1, 2, and 3 (ML15355A055); Kewaunee Power Station (ML17069A394); and Fort Calhoun Station (ML17172A730).

Records associated with residual radiological activity and with programmatic controls necessary to support decommissioning, such as security and quality assurance, are not affected by the exemption request because they will be retained as decommissioning records, as required by 10 CFR part 50, “Domestic Licensing of Production and Utilization Facilities,” until the termination of the TMI-2 license. No exemption was requested from the decommissioning records retention requirements of 10 CFR 50.75, “Reporting and recordkeeping for decommissioning planning,” or any other requirements of 10 CFR part 50 applicable to decommissioning and dismantlement.

III. Discussion

Pursuant to 10 CFR 50.12, “Specific exemptions,” the Commission may, upon application by any interested person or upon its own initiative, grant exemptions from the requirements of 10 CFR part 50 when the exemptions are authorized by law, will not present an undue risk to public health or safety, and are consistent with the common defense and security. However, the Commission will not consider granting an exemption unless special circumstances are present. Special circumstances are described in 10 CFR 50.12(a)(2).

TMI-2 Solutions states in its application that decommissioning of the TMl-2 and the nuclear reactor and essentially all associated SSCs in the nuclear steam supply system and balance of plant that supported the generation of power have been retired in place and are being prepared for removal. SSCs that remain operable are associated with the Reactor Building and effluent monitoring, are needed to meet other regulatory requirements, or are needed to support other site facilities (e.g., radwaste handling, heating, ventilation, and air conditioning). There are no SSCs classified as safety-related. SSCs related to safe storage of the remaining Debris Material are designated as Important to Safety by the current licensing basis. The licensee also states in its application that TMI-2 Solutions is progressively removing these SSCs related to safe storage of the remaining Debris Material from the licensing basis where necessary through appropriate change mechanisms (e.g., 10 CFR 50.59 or NRC approved TS changes, as applicable); revising the Final Safety Analysis Report (FSAR) for PDMS, as necessary; and, then proceeding with an orderly dismantlement.

In its October 5, 2021, exemption request, the TMI-2 Solutions indicates that the basis for eliminating records associated with reactor facility SSCs and activities is that these SSCs have been (or will be) removed from service per regulatory change processes, dismantled or demolished, and no longer have any function regulated by the NRC.

The licensee recognizes that some records related to the nuclear unit will continue to be under NRC regulation primarily due to residual radioactivity. The radiological and other necessary programmatic controls (such as security, quality assurance, etc.) for the facility and the implementation of controls for the defueled condition and the decommissioning activities are and will continue to be appropriately addressed through the license and current plant documents such as the FSAR for PDMS and the TS. Through a license application request dated February 19, 2021 (ML21057A046), TMI-2 Solutions requested that certain Technical Specification records requirements be relocated to the Decommissioning Quality Assurance Plan. This action is currently under review. TMI-2 Solutions indicated in its exemption request that future changes to the Technical Specifications will be made through the applicable change processes defined in the regulations (e.g., 10 CFR 50.48(f), “Fire protection,” 10 CFR 50.59, 10 CFR 50.54(a), “Conditions of licenses,” 10 CFR 50.54(p), 10 CFR 50.54(q)). The NRC staff notes that except for future changes made through the applicable change process defined in the regulations (e.g., 10 CFR 50.48(f), 10 CFR 50.59, 10 CFR 50.90, “Application for amendment of license, construction permit, or early site permit,” 10 CFR 50.54(a), 10 CFR 50.54(p), 10 CFR 50.54(q)), these programmatic elements and their associated records are unaffected by the requested exemptions.

TMI-2 Solutions justifies the elimination of records associated with TMI-2 SSCs for retired equipment that have been removed from service and have been or will be physically removed, dismantled, or demolished, because it believes these SSCs now and will not in the future serve any TMI-2 functions regulated by the NRC. For example, the primarily coolant system is currently not in service and will never be in service again nor are there any vital areas that will be used for their intended purposes. Maintaining decommissioning records on the SSC associated with the primarily coolant system will not serve any TMI-2 function regulated by the NRC. TMI-2 Solutions decommissioning plans for TMI-2 are described in the Post-Shutdown Decommissioning Activities Report dated March 17, 2021 (ML21084A229). The licensee's decommissioning process involves evaluating SSCs with respect to the current facility safety analysis; progressively removing them from the licensing basis where necessary through appropriate change mechanisms (e.g., 10 CFR 50.59 or by NRC approved TS changes, as applicable); revising the FSAR, as necessary; and then proceeding with an orderly dismantlement.

TMI-2 Solutions intends to retain the records required by its license as the state of the facility transitions through decommissioning. However, equipment abandonment will obviate the regulatory and business needs for maintenance of most records. As the SSCs are removed from the licensing basis, TMI-2 Solutions asserts that the need for its records is, on a practical basis, eliminated. Therefore, TMI-2 Solutions is requesting partial exemptions from the associated records retention requirements for SSCs for retired equipment that have been removed from service and have been or will be physically removed and historical activities that are no longer relevant, except it has committed to preserve all records pertaining to the 1979 Records Preservation Order ((44 FR 30788, dated May 29, 1979 and Attachment 1 of December 15, 2021 submittal (ML21354A027)).

A. The Exemption Is Authorized by Law

As stated above, 10 CFR 50.12 allows the NRC to grant exemptions from 10 CFR part 50 requirements if it makes certain findings. As described here and in the sections below, the NRC staff has determined that special circumstances exist to grant the partial exemptions. In addition, granting the licensee's proposed exemptions will not result in a violation of the Atomic Energy Act of 1954, as amended; other laws; or the Commission's regulations. Therefore, the granting of the exemption request from the recordkeeping requirements of 10 CFR 50.71(c); 10 CFR part 50, Appendix B, Criterion XVII; and 10 CFR 50.59(d)(3) is authorized by law.

B. The Exemption Presents No Undue Risk to Public Health and Safety

As SSCs are prepared for safe storage and eventual decommissioning and dismantlement, they will be removed from NRC licensing basis documents through appropriate change mechanisms, such as through the 10 CFR 50.59 process or through a license amendment request approved by the NRC. These change processes involve either a determination by the licensee or an approval from the NRC that the affected SSCs no longer serve any safety purpose regulated by the NRC. Therefore, the removal of the SSCs would not present an undue risk to public health and safety. In turn, elimination of records associated with these removed SSCs would not cause any additional impact to public health and safety.

The granting of the exemption request from the recordkeeping requirements of 10 CFR 50.71(c); 10 CFR part 50, Appendix B, Criterion XVII; and 10 CFR 50.59(d)(3) for the records described is administrative in nature and will have no impact on any remaining decommissioning activities or on radiological effluents. The granting of the exemption request will only advance the schedule for disposition of the specified records. Because these records contain information about SSCs associated with reactor operation and contain no information needed to maintain the facility in a safe condition when the facility is eventually decommissioned through approved NRC licensing proceedings and the SSCs are dismantled, the elimination of these records on an advanced timetable will have no reasonable possibility of presenting any undue risk to the public health and safety. TMI-2 Solutions is not requesting any exemption associated with retention of spent fuel debris related records required by 10 CFR part 50 and 10 CFR part 72, “Licensing Requirements for the Independent Storage of Spent Nuclear Fuel, High-Level Radioactive Waste, and Reactor-Related Greater Than Class C Waste.”

C. The Exemption is Consistent With the Common Defense and Security

The elimination of the recordkeeping requirements does not involve information or activities that could potentially impact the common defense and security of the United States. Upon dismantlement of the affected SSCs, the records have no functional purpose relative to maintaining the safe operation of the SSCs, maintaining conditions that would affect the ongoing health and safety of workers or the public, or informing decisions related to nuclear security.

Rather, the exemptions requested are administrative in nature and would only advance the current schedule for disposition of the specified records. Therefore, the exemption request from the recordkeeping requirements of 10 CFR 50.71(c); 10 CFR part 50, Appendix B, Criterion XVII; and 10 CFR 50.59(d)(3) for the types of records described is consistent with the common defense and security.

D. Special Circumstances

Paragraph 50.12(a)(2) of 10 CFR states, in part:

The Commission will not consider granting an exemption unless special circumstances are present. Special circumstances are present whenever—. . .

(ii) Application of the regulation in the particular circumstances would not serve the underlying purpose of the rule or is not necessary to achieve the underlying purpose of the rule; or

(iii) Compliance would result in undue hardship or other costs that are significantly in excess of those contemplated when the regulation was adopted . . .

Criterion XVII of Appendix B to 10 CFR part 50 states, in part: “Sufficient records shall be maintained to furnish evidence of activities affecting quality.”

Paragraph 50.59(d)(3) of 10 CFR states, in part: “The records of changes in the facility must be maintained until the termination of an operating license issued under this part . . .”

Paragraph 50.71(c) of 10 CFR, states, in part:

Records that are required by the regulations in this part or part 52 of this chapter, by license condition, or by Technical Specifications must be retained for the period specified by the appropriate regulation, license condition, or Technical Specification. If a retention period is not otherwise specified, these records must be retained until the Commission terminates the facility license. . . .

In the statement of considerations for the final rulemaking, “Retention Periods for Records” (53 FR 19240, dated May 27, 1988), in response to public comments received during the rulemaking process, the NRC stated that records must be retained “for NRC to ensure compliance with the safety and health aspects of the nuclear environment and for the NRC to accomplish its mission to protect the public health and safety.” In the statement of considerations, the Commission also explained that requiring licensees to maintain adequate records assists the NRC “in judging compliance and noncompliance, to act on possible noncompliance, and to examine facts as necessary following any incident.”

These regulations apply to licensees in decommissioning. During the decommissioning process, safety-related SSCs are retired or disabled and subsequently removed from NRC licensing basis documents by appropriate change mechanisms. Appropriate removal of an SSC from the licensing basis requires either a determination by the licensee or an approval from the NRC that the SSC no longer has the potential to cause an accident, event, or other problem that would adversely impact public health and safety.

The records subject to removal under this exemption request are associated with SSCs that had been important to safety during power operation or operation of the spent fuel pool, but are no longer capable of causing an event, incident, or condition that would adversely impact public health and safety, as evidenced by their appropriate removal from the licensing basis documents. If the SSCs no longer have the potential to cause these scenarios, then it is reasonable to conclude that the records associated with these SSCs would not reasonably be necessary to assist the NRC in determining compliance and noncompliance, taking action on possible noncompliance, or examining facts following an incident. Therefore, their retention would not serve the underlying purpose of the rule.

In addition, once removed from the licensing basis documents (e.g., FSAR or TS), SSCs are no longer governed by the NRC's regulations, and therefore, are not subject to compliance with the safety and health aspects of the nuclear environment. As such, retention of records associated with SSCs that are or will no longer be part of the facility serves no safety or regulatory purpose, nor does it serve the underlying purpose of the rule of maintaining compliance with the safety and health aspects of the nuclear environment in order to accomplish the NRC's mission. Therefore, special circumstances are present that the NRC may consider, pursuant to 10 CFR 50.12(a)(2)(ii), to grant the exemption request.

Records that continue to serve the underlying purpose of the rule, that is, to maintain compliance and to protect public health and safety in support of the NRC's mission, will continue to be retained pursuant to other regulations in 10 CFR part 50 and 10 CFR part 72. Retained records that are not subject to the proposed exemption include those associated with programmatic controls, such as those pertaining to residual radioactivity, security, and quality assurance, as well as records associated with the ISFSI and spent fuel debris.

The retention of records required by 10 CFR 50.71(c); 10 CFR part 50, Appendix B, Criterion XVII; and 10 CFR 50.59(d)(3) provides assurance that records associated with SSCs will be captured, indexed, and stored in an environmentally suitable and retrievable condition. Given the volume of records associated with the SSCs, compliance with the records retention rule results in a considerable cost to the licensee. Retention of the volume of records associated with the SSCs during the operational phase is appropriate to serve the underlying purpose of determining compliance and noncompliance, taking action on possible noncompliance, and examining facts following an incident, as discussed.

However, the cost effect of retaining operational phase records beyond the operations phase until the termination of the license was not fully considered or understood when the records retention rule was put in place. For example, existing records storage facilities are eliminated as decommissioning progresses. Retaining records associated with SSCs and activities that no longer serve a safety or regulatory purpose would, therefore, result in an unnecessary financial and administrative burden. As such, compliance with the rule would result in an undue cost in excess of that contemplated when the rule was adopted. Therefore, special circumstances are present that the NRC may consider, pursuant to 10 CFR 50.12(a)(2)(iii), to grant the exemption request. The licensee has committed to preserve all records pertaining to the 1979 Records Preservation Order ((44 FR 30788, dated May 29, 1979 and Attachment 1 of December 15, 2021 submittal (ML21354A027)). TMI-2 Solutions is not requesting any exemption associated with retention of spent fuel debris related records required by 10 CFR part 50 and 10 CFR part 72.

E. Environmental Considerations

Pursuant to 10 CFR 51.22(b) and (c)(25), “Criterion for categorical exclusion; identification of licensing and regulatory actions eligible for categorical exclusion or otherwise not requiring environmental review,” the granting of an exemption from the requirements of any regulation in Chapter I of 10 CFR part 50 meets the eligibility criteria for categorical exclusion provided that: (1) there is no significant hazards consideration; (2) there is no significant change in the types or significant increase in the amounts of any effluents that may be released off-site; (3) there is no significant increase in individual or cumulative public or occupational radiation exposure; (4) there is no significant construction impact; (5) there is no significant increase in the potential for or consequences from radiological accidents; and (6) the requirements from which an exemption is sought are among those identified in 10 CFR 51.22(c)(25)(vi).

The exemption request is administrative in nature. The exemption request has no effect on SSCs and no effect on the capability of any plant SSC to perform its design function. The exemption request would not increase the likelihood of the malfunction of any plant SSC.

The probability of occurrence of previously evaluated accidents is not increased since most previously analyzed accidents will no longer be able to occur, and the probability and consequences of the remaining fuel handling accident are unaffected by the exemption request. Therefore, the exemption request does not involve a significant increase in the probability or consequences of an accident previously evaluated.

The exemption request does not involve a physical alteration of the plant. No new or different types of equipment will be installed, and there are no physical modifications to existing equipment associated with the exemption request. Similarly, the exemption request will not physically change any SSCs involved in the mitigation of any accidents. Thus, no new initiators or precursors of a new or different kind of accident are created. Furthermore, the exemption request does not create the possibility of a new accident as a result of new failure modes associated with any equipment or personnel failures. No changes are being made to parameters within which the plant is normally operated or in the setpoints that initiate protective or mitigative actions, and no new failure modes are being introduced. Therefore, the exemption request does not create the possibility of a new or different kind of accident from any accident previously evaluated.

The exemption request does not alter the design basis or any safety limits for the plant. The exemption request does not impact station operation or any plant SSC that is relied upon for accident mitigation. Therefore, the exemption request does not involve a significant reduction in a margin of safety.

For these reasons, the NRC staff has determined that approval of the exemption request involves no significant hazards consideration because granting the licensee's exemption request from the recordkeeping requirements of 10 CFR 50.71(c); 10 CFR part 50, Appendix B, Criterion XVII; and 10 CFR 50.59(d)(3) at TMI-2 does not: (1) involve a significant increase in the probability or consequences of an accident previously evaluated, (2) create the possibility of a new or different kind of accident from any accident previously evaluated, or (3) involve a significant reduction in a margin of safety (10 CFR 50.92(c), “Issuance of Amendment.”) Likewise, there is no significant change in the types or significant increase in the amounts of any effluents that may be released off-site and no significant increase in individual or cumulative public or occupational radiation exposure.

The exempted regulations are not associated with construction, so there is no significant construction impact. The exempted regulations do not concern the source term (i.e., potential amount of radiation involved for an accident) or accident mitigation; therefore, there is no significant increase in the potential for, or consequences from, radiological accidents. Allowing the licensee exemption from the record retention requirements for which the partial exemption is sought involves recordkeeping requirements, as well as reporting requirements of an administrative, managerial, or organizational nature.

Therefore, pursuant to 10 CFR 51.22(b), 10 CFR 51.22(c)(25), and 10 CFR 51.22(c)(ii), no environmental impact statement or environmental assessment need be prepared in connection with the approval of this exemption request or conforming amendment.

IV. Conclusions

The NRC staff has determined that the granting of the exemption request from the recordkeeping requirements of 10 CFR 50.71(c); 10 CFR part 50, Appendix B, Criterion XVII; and 10 CFR 50.59(d)(3) will not present an undue risk to the public health and safety. The destruction of the identified records related to SSCs that have been removed from service and have been or will be physically removed will not impact remaining decommissioning activities; plant operations, configuration, and/or radiological effluents; operational and/or installed SSCs that are quality-related or important to safety; or nuclear security. The NRC staff has determined that the destruction of the identified records at that time is administrative in nature and does not involve information or activities that could potentially impact the common defense and security of the United States.

The purpose for the recordkeeping regulations is to assist the NRC in carrying out its mission to protect the public health and safety by ensuring that the licensing and design basis of the facility are understood, documented, preserved, and retrievable in such a way that will aid the NRC in determining compliance and noncompliance, taking action on possible noncompliance, and examining facts following an incident. Since the TMI-2 SSCs for retired equipment have been removed from service and have been or will be physically removed, the NRC staff has determined that the records identified in the exemption request will no longer be required to achieve the underlying purpose of the records retention rule. TMI-2 Solutions has committed to preserve all records pertaining to the 1979 Records Preservation Order ((44 FR 30788, dated May 29, 1979 and Attachment 1 of December 15, 2021 submittal (ML21354A027)).

Accordingly, the Commission has determined that pursuant to 10 CFR 50.12, the partial exemptions are authorized by law, will not present an undue risk to the public health and safety, and are consistent with the common defense and security. Also, special circumstances are present. Therefore, the Commission hereby grants TMI-2 Solutions partial exemptions from the recordkeeping requirements of 10 CFR 50.71(c); 10 CFR part 50, Appendix B, Criterion XVII; and 10 CFR 50.59(d)(3) for TMI-2 only to the extent necessary to allow the licensee to advance the schedule to remove records associated with retired SSCs that have been removed from service and have been or will be physically removed by appropriate change mechanisms (e.g., 10 CFR 50.59 or by NRC approved license amendment request, as applicable). Again, the licensee has committed to preserve all records pertaining to the 1979 Records Preservation Order ((44 FR 30788, dated May 29, 1979 and Attachment 1 of December 15, 2021 submittal (ML21354A027)).TMI-2 Solutions is not requesting any exemption associated with retention of spent fuel debris related records required by 10 CFR part 50 and 10 CFR part 72.

These exemptions are effective upon issuance.

Dated: September 16, 2022.

For the Nuclear Regulatory Commission.

/RA September 16, 2022/

Jane E. Marshall,

Director, Division of Decommissioning, Uranium Recovery, and Waste Programs Office of Nuclear Material Safety and Safeguards.

[FR Doc. 2022-23975 Filed 11-3-22; 8:45 am]

BILLING CODE 7590-01-P